FEDERAL ACCOUNTING STANDARDS ADVISORY BOARD

Notice of August 25, 2022, Federal Accounting Standards Advisory Board Meeting

AGENCY: Federal Accounting Standards Advisory Board.

ACTION: Notice.

SUMMARY: Notice is hereby given that the Federal Accounting Standards Advisory Board (FASAB) will hold a meeting on August 25, 2022. The purpose of the meeting is to discuss the draft management's discussion and analysis exposure draft. The meeting will begin at 9:30 a.m. and conclude at 12:30 p.m. The meeting will be virtual.

ADDRESSES: The agenda, briefing materials, and teleconference information for the virtual meeting will be available at https://www.fasab.gov/briefing-materials/ approximately one week before the meeting. Any interested person may attend the virtual meeting as an observer. Board discussion and reviews are open to the public. For any questions concerning the meeting or during the meeting please send an email to fasab@fasab.gov.

FOR FURTHER INFORMATION CONTACT: Ms. Monica R. Valentine, Executive Director, 441 G Street NW, Suite 1155, Washington, DC 20548, or call (202) 512-7350.

Authority: 31 U.S.C. 3511(d), Federal Advisory Committee Act, as amended (5 U.S.C. App.).

Dated: July 11, 2022.
Monica R. Valentine,
Executive Director.

[FR Doc. 2022-15108 Filed 7-14-22; 8:45 am]

BILLING CODE P